DEPARTMENT OF THE INTERIOR

Fish and Wildlife Service

[FWS-R4-R-2011-N216;40136-1265-0000-S3]

Proposed Establishment of Everglades Headwaters National Wildlife Refuge and Conservation Area; Draft Land Protection Plan and Environmental Assessment

AGENCY: Fish and Wildlife Service, Interior.

ACTION: Notice of availability; extension of comment period.

SUMMARY: We, the Fish and Wildlife Service (Service), advise the public that we are extending the public comment period for the proposed establishment of the Everglades Headwaters National Wildlife Refuge (NWR) and Conservation Area. If you have previously submitted comments, please do not resubmit them, because we have already incorporated them in the public record and will fully consider them in our final decision.

DATES: To ensure consideration, please send your written comments by November 25, 2011.

ADDRESSES: Send comments concerning the draft land protection plan and environmental assessment to Everglades Headwaters Proposal, by U.S. mail at U.S. Fish and Wildlife Service, P.O. Box 2683, Titusville, FL 32781-2683, by e-mail at EvergladesHeadwatersProposal@fws.gov, or to 321/861-1276 (fax). For document availability, see below.

FOR FURTHER INFORMATION CONTACT: Ms. Cheri M. Ehrhardt, Natural Resource Planner, at 321/861-2368 (telephone) or Mr. Charlie Pelizza, Refuge Manager, at 772/562-3909, extension 244 (telephone).

SUPPLEMENTARY INFORMATION: On September 8, 2011, we published a Federal Register notice (76 FR 55699) announcing the proposed establishment of the Everglades Headwaters NWR and Conservation Area in Polk, Osceola, Highlands, and Okeechobee Counties in central and south Florida in accordance with the National Environmental Policy Act (40 CFR 1506.6 (b)) requirements. We originally opened this comment period on September 8, 2011 (76 FR 55699). For background and more information on the proposed establishment of the Everglades Headwaters NWR and Conservation Area, please see that notice. We are extending the public comment period on the proposed establishment of this refuge and conservation area in response to the high level of interest we have received.

Document Availability

Copies of the draft land protection plan and environmental assessment are available by writing to the U.S. mail address and e-mail address under ADDRESSES as listed above, or by calling 321/861-0067 (telephone), 321/861-1276 (fax). Alternatively, you may download the document from our Internet Site at http://www.fws.gov/southeast/evergladesheadwaters/.

Public Availability of Comments

Before including your address, phone number, e-mail address, or other personal identifying information in your comment, you should be aware that your entire comment—including your personal identifying information—may be made publicly available at any time. While you may ask us in your comment to withhold your personal identifying information from public review, we cannot guarantee that we will be able to do so.

Authority

This notice is published under the authority of the National Wildlife Refuge System Improvement Act of 1997, Public Law 105-57.

Dated: October 21, 2011.
Paul Steblein,
Acting Assistant Director, National Wildlife Refuge System.

[FR Doc. 2011-27748 Filed 10-24-11; 8:45 am]

BILLING CODE 4310-55-P